DEPARTMENT OF HEALTH AND HUMAN SERVICES

National Institutes of Health

Center for Scientific Review; Amended Notice of Meeting

Notice is hereby given of a change in the meeting of the Vaccines Against Microbial Diseases Study Section, October 24, 2013, 08:30 a.m. to October 25, 2013, 05:00 p.m., Renaissance Washington, DC, Dupont Circle, 1143 New Hampshire Avenue NW., Washington, DC 20037, which was published in the Federal Register on October 01, 2013, 78 FR 190 Pg. 60297.

The meeting will be held at the Renaissance Washington, DC Downtown Hotel, 999 Ninth Street NW., Washington, DC 20001. The meeting will start on December 12, 2013 at 8:30 a.m. and end on December 13, 2013 at 4:00 p.m. The meeting is closed to the public.

Dated: October 29, 2013.
Melanie J. Gray,
Program Analyst, Office of Federal Advisory Committee Policy.

[FR Doc. 2013-26217 Filed 11-1-13; 8:45 am]

BILLING CODE 4140-01-P